DEPARTMENT OF HOUSING AND URBAN DEVELOPMENT

[Docket No. FR-4737-N-08]

Notice of Proposed Information Collection for Public Comment: Data Collection Techniques for Identifying the Housing Subsidy Status of Survey Respondents

AGENCY: Office of Policy Development and Research, HUD.

ACTION: Notice.

SUMMARY: The proposed information collection requirement described below will be submitted to the Office of Management and Budget (OMB) for review, as required by the Paperwork Reduction Act. The Department is soliciting public comments on the subject proposal.

DATES: Comment Due Date: December 31, 2002.

ADDRESSES: Interested persons are invited to submit comments regarding this proposal. Comments should refer to the proposal by name and/or OMB Control Number and should be sent to: Reports Liaison Officer, Office of Policy Development and Research, Department of Housing and Urban Development, 451 7th Street, Room 8228, SW., Washington, DC 20410.

FOR FURTHER INFORMATION CONTACT: Harold R. Holzman, Program Evaluation Division, Office of Policy Development and Research, Department of Housing and Urban Development, 451 7th Street, SW., Room 8140, Washington, DC 20410, telephone 202-708-3700, extension 5709. This is not a toll-free number. E-mail: Harold_R._Holman@hud.gov. Copies of the proposed forms and other available documents may be obtained from Harold Holzman.

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary for the proper performance of functions to the agency, including if the information will have practical utility; (2) Evaluate the accuracy of the agency's estimate of the burden of the proposed collection of information; (3) Enhance the quality, utility, and clarity of the information to be collected; (4) Minimize the burden of the collection of information on those who respond, including through the use of appropriate automated collection techniques or other forms of information technology that will reduce respondent burden (e.g., permitting electronic submission of responses).

This notice also provides the following information:

Title of Proposal: Data Collection Techniques for Identifying the Housing Subsidy Status of Survey Respondents.

Description of the Need for Information and Proposed Use: The Department is conducting under contract a study to develop techniques to more accurately identify respondents' housing subsidy status in the American Housing Survey (AHS). The AHS provides information about the Nation's housing needs, with emphasis on the condition of the housing of low income households, as required by the Housing and Urban/Rural Recovery Act of 1983. The AHS data are also the basis of an annual report on housing quality that Congress requires of the President. Further, AHS data allow the Department to evaluate the housing needs of low-income families.

Accuracy of the results has been an issue in past versions of the AHS. Specifically, a substantial proportion of respondents misidentify their housing subsidy status in the survey. This threatens the accuracy of information that is reported to Congress, and it also can lead the Department to provide inadequate amounts of housing assistance to low-income families.

Some housing subsidy misidentifications in the AHS involve a ‘false positive’ pattern: individuals who do not receive a housing subsidy based on program records indicate that they do receive a subsidy in the AHS. The present investigation is an attempt to determine whether alternative survey questions would reduce the number of false positives in the AHS.

To identify false positives, it is necessary to first identify individuals who believe themselves in receipt of a housing subsidy, then use program records to determine whether they are actually receiving a subsidy. In the present study, screening interviews matched with program records will be used to identify individuals who fit the false positive pattern. Alternative questions designed to more effectively identify false positives will be tested in a second interview with a sample of such individuals.

Members of the Affected Public: (1) Randomly selected individuals will participate in screening interviews; and (2) a subset of the randomly selected individuals will participate in a second interview.

Estimation of the Total Number of Hours Needed With Those Surveyed to Conduct the Information Collection, Including Number of Respondents, Frequency of Response, and Hours of Response: The researchers will complete screening interviews with 800 individuals. The individuals will be interviewed by telephone, in their homes, or in another place that is convenient for them. The screening interviews will involve questions about housing subsidies, to identify individuals who believe themselves in receipt of a subsidy. Fifteen individuals who believe themselves in receipt of a subsidy but who are not according to program records will participate in a second interview. This second interview will test alternative questions designed to more accurately identify individuals' housing subsidy status.

Estimation of the Total Number of Hours Needed With Those Surveyed to Conduct the Information Collection, Including Number of Respondents, Frequency of Response, and Hours of Response:

Types of respondents | Number of respondents | Number of responses | Minutes per respondent | Total burden hours
Randomly selected individuals | 800 | 1 | 5 | 67
Low-income individuals who incorrectly believe that they are receiving a housing subsidy | 15 | 1 | 60 | 15
Total | 815 |  |  | 82

Status of the Proposed Information Collection: Pending OMB for approval.

Authority: Section 3506 of the Paperwork Reduction Act of 1995, 44 U.S.C. Chapter 35, as amended.

Dated: October 23, 2002.
Harold L. Bunce,
Deputy Assistant Secretary for Economic Affairs.

[FR Doc. 02-27747 Filed 10-31-02; 8:45 am]

BILLING CODE 4210-62-M